DEPARTMENT OF ENERGY

Federal Energy Regulatory Commission

[Docket No. CP02-387-000]

Petal Gas Storage, L.L.C.; Notice of Intent to Prepare an Environmental Assessment for the Proposed Natural Gas Storage Cavern Expansion Project and Request for Comments on Environmental Issues

August 6, 2002.

The staff of the Federal Energy Regulatory Commission (FERC or Commission) will prepare an environmental assessment (EA) that will discuss the environmental impacts of Petal Gas Storage, L.L.C.'s (Petal) proposed natural gas storage cavern expansion project in Forrest County, Mississippi.¹ This EA will be used by the Commission in its decision-making process to determine whether the project is in the public convenience and necessity.

¹ Petal's application was filed under section 7(c) of the Natural Gas Act and part 157 of the Commission's regulations on June 18, 2002.

If you are a landowner receiving this notice, you may be contacted by a Petal representative about the acquisition of an easement to construct, operate, and maintain the proposed facilities. The pipeline company would seek to negotiate a mutually acceptable agreement. However, if the project is approved by the Commission, that approval conveys with it the right of eminent domain. Therefore, if easement negotiations fail to produce an agreement, Petal could initiate condemnation proceedings in accordance with state law.

A fact sheet prepared by the FERC entitled “An Interstate Natural Gas Facility On My Land? What Do I Need To Know?” should have been attached to the project notice Petal provided to landowners. This fact sheet addresses a number of typically asked questions, including the use of eminent domain and how to participate in the Commission's proceedings. It is available for viewing on the FERC Internet website (http://www.ferc.gov).

This Notice of Intent (NOI) is being sent to landowners along Petal's proposed pipeline route; Federal, state, and local government agencies; national elected officials; regional environmental and public interest groups; Indian tribes that might attach religious and cultural significance to historic properties in the area of potential effects; local libraries and newspapers; and the Commission's list of parties to the proceeding.

Government representatives are encouraged to notify their constituents of this proposed action and encourage them to comment on their areas of concern. Additionally, with this NOI we ² are asking Federal, state, local, and tribal agencies with jurisdiction and/or special expertise with respect to environmental issues to cooperate with us in the preparation of the EA. These agencies may choose to participate once they have evaluated Petal's proposal relative to their agencies' responsibilities. Agencies who would like to request cooperating status should follow the instructions for filing comments described below.

² ”We,” “us,” and “our” refer to the environmental staff of the FERC's Office of Energy Projects.

Summary of the Proposed Project

Petal proposes to expand its existing natural gas storage facilities to meet projected future market demands. To accomplish this, Petal would:

• convert existing liquefied petroleum gas Cavern No. 3 into a storage cavern for natural gas, with a capacity up to 3 billion cubic feet (Bcf);

• construct new Cavern No. 8, with a working capacity up to 5 Bcf;

• add a 5,000 horsepower unit to Petal's existing Compressor Station No. 2;

• construct about 3,683 feet of 16-inch-diameter natural gas pipelines between Cavern No. 3, Cavern No. 8, and Compressor Station No.2;

• construct about 3,575 feet of 12-inch-diameter water and brine lines; and

• install dehydration and pressure regulation facilities at Compressor Station No. 2.

Cavern No. 3 is about 0.2 mile west of Petal's existing storage plant, on property Petal recently acquired from Suburban Propane, L.P. (Suburban). The former Suburban parcel contains existing leach plant facilities, brine disposal facilities, and water wells necessary for the conversion and expansion of Cavern No. 3. Cavern No. 8 is situated on a 23 acre parcel owed by Petal at the northwest corner of its existing storage plant. The water wells, leach plant, and brine disposal facilities necessary for the creation of Cavern No. 8 are extant within the Dynegy, Inc. property adjacent to Petal's storage plant. The new compressor unit, dehydration facilities, and regulation facilities would be installed within Petal's existing Compressor Station No. 2. The general location of the facilities proposed by Petal is shown on the map attached as appendix 1.³

³ The appendices referenced in this notice are not being printed in the Federal Register. Copies are available for review at the Commission's Public Reference Room during normal business hours (8:30 a.m. to 5 p.m. Eastern time) at 888 First Street, NE, Room 2A, Washington, DC 20426, or call (202) 208-1371, or on the FERC Internet website (www.ferc.gov) using the FERRIS link. For instructions on connecting to FERRIS refer to the last page of this notice. Copies of the appendices were sent to all those receiving this notice in the mail.

Land Requirements for Construction

Construction of the facilities proposed by Petal would affect about 21 acres of land. The permanent facilities would occupy about 6 acres. The remaining land would only be used temporarily, and after construction would be restored to their previous condition and uses. About 65 percent of the land to be affected by construction is owned in fee by Petal. Petal claims to have reached agreements for all other necessary rights-of-way with adjacent landowners.

The EA Process

The National Environmental Policy Act (NEPA) requires the Commission to take into account the environmental impacts that could result from an action whenever it considers the issuance of a Certificate of Public Convenience and Necessity. NEPA also requires us to discover and address concerns the public may have about proposals. We call this “scoping.” The main goal of the scoping process is to focus the analysis in the EA on the important environmental issues. By this NOI, the Commission requests public comments on the scope of the issues it will address in the EA. All comments received are considered during the preparation of the EA.

Our independent analysis of the issues will be in the EA. We will also evaluate possible alternatives to the proposed action, or portions of the project, and make recommendations on how to lessen or avoid impacts on various environmental resources.

Depending on the comments received during the scoping process, the EA may be published and mailed to Federal, state, and local agencies, elected officials, affected landowners, regional public interest groups, Indian tribes, local newspapers and libraries, and the Commission's official service list for this proceeding. A comment period will be allotted for review if the EA is published. We will consider all comments on the EA before we make our recommendations to the Commission.

Currently Identified Environmental Issues

The EA will discuss impacts that could occur as a result of construction and operation of the proposed project. We have already identified a number of issues that we think deserve attention based on a preliminary review of the proposed facilities and the environmental information provided by Petal. This preliminary list of issues may be changed based on your comments and our analysis.

• Geology and Soils

—Crossing soils with high erosion and poor revegetation potential.

—Crossing prime farmland soils.

• Water Resources and Wetlands

—Drilling for Cavern No. 8 will extend through the Miocene aquifer.

—Four wetlands were identified in the project area.

• Vegetation and Wildlife

—About 9 acres of upland forest would be affected.

—May affect the federally-listed threatened gopher tortoise.

Public Participation

You can make a difference by providing us with your specific comments or concerns about the project. By becoming a commentor, your concerns will be addressed in the EA and considered by the Commission. You should focus on the potential environmental effects of the proposal, alternatives to the proposal (including alternative locations or routes), and measures to avoid or lessen environmental impact. The more specific your comments, the more useful they will be. Please carefully follow these instructions to ensure that your comments are received in time and properly recorded:

• Send an original and two copies of your letter to: Magalie R. Salas, Secretary, Federal Energy Regulatory Commission, 888 First St., NE., Room 1A, Washington, DC 20426;

• Label one copy of the comments for the attention of the Gas/Hydro Branch, PJ-11.3;

• Reference Docket No. CP02-387-000; and

• Mail your comments so that they will be received in Washington, DC on or before September 9, 2002.

Please note that we are continuing to experience delays in mail deliveries from the U.S. Postal Service. As a result, we will include all comments that we receive within a reasonable time frame in our environmental analysis of this project. However, the Commission strongly encourages electronic filing of any comments, interventions or protests to this proceeding. See 18 CFR 385.2001(a)(1)(iii) and the instructions on the Commission's Internet website at http://www.ferc.gov under the “e-Filing” link and the link to the User's Guide. Before you can file comments you will need to create a free account which can be created by clicking on “Login to File” and then “New User Account.”

We may mail the EA for comments. If you are interested in receiving it, please return the Information Request (appendix 2). If you do not return the Information Request, you will be taken off the mailing list.

Becoming an Intervenor

In addition to involvement in the EA scoping process, you may want to become an official party to the proceeding known as an “intervenor.” Intervenors play a more formal role in the process. Among other things, intervenors have the right to receive copies of case-related Commission documents and filings by other intervenors. Likewise, each intervenor must provide 14 copies of its filings to the Secretary of the Commission and must send a copy of its filings to all other parties on the Commission's service list for this proceeding. If you want to become an intervenor you must file a motion to intervene according to Rule 214 of the Commission's Rules of Practice and Procedure (18 CFR 385.214).⁴ Only intervenors have the right to seek rehearing of the Commission's decision.

⁴ Interventions may also be filed electronically via the Internet in lieu of paper. See the previous discussion on filing comments electronically.

Affected landowners and parties with environmental concerns may be granted intervenor status upon showing good cause by stating that they have a clear and direct interest in this proceeding which would not be adequately represented by any other parties. You do not need intervenor status to have your environmental comments considered.

Additional Information

Additional information about the proposed project is available from the Commission's Office of External Affairs at 1-866-208-FERC or on the FERC Internet website (www.ferc.gov) using the FERRIS link. Click on the FERRIS link, enter the docket number excluding the last three digits in the Docket Number field. Be sure you have selected an appropriate date range. For assistance with FERRIS, the FERRIS helpline can be reached at (202) 502-8222, TTY (202) 208-1659. The FERRIS link on the FERC Internet website also provides access to the text of formal documents issued by the Commission, such as orders, notices, and rulemakings.

Linwood A. Watson, Jr.,
Deputy Secretary.

[FR Doc. 02-20308 Filed 8-9-02; 8:45 am]

BILLING CODE 6717-01-P